DEPARTMENT OF ENERGY

Environmental Management Site-Specific Advisory Board, Idaho National Laboratory

AGENCY: Department of Energy.

ACTION: Notice of Open Meeting: Correction.

SUMMARY: On October 27, 2014, the Department of Energy (DOE) published a notice of open meeting announcing a meeting on November 18, 2014 of the Environmental Management Site-Specific Advisory Board, Paducah (79 FR 63913). This document makes a correction to that notice.

FOR FURTHER INFORMATION CONTACT: Robert L. Pence, Federal Coordinator, Department of Energy, Idaho Operations Office, 1955 Fremont Avenue, MS-1203, Idaho Falls, Idaho 83415. Phone (208) 526-6518; Fax (208) 526-8789 or email: pencerl@id.doe.gov or visit the Board's Internet home page at: http://inlcab.energy.gov/.

Correction

In the Federal Register of October 27, 2014, in FR Doc. 2014-25457, on page 63913, please make the following correction:

In that notice under DATES, third column, second paragraph, the meeting date should be corrected. The correct date is November 19, 2014 instead of November 18, 2014.

Issued at Washington, DC, on October 29, 2014.
LaTanya R. Butler,
Deputy Committee Management Officer.

[FR Doc. 2014-26044 Filed 10-31-14; 8:45 am]

BILLING CODE 6450-01-P